DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 84 FR 49535-49540 dated September 20, 2019).

HRSA is making changes within both the HIV/AIDS Bureau and Office of Global Health in order to generate efficiencies in the delivery of technical assistance and global activities by better aligning staff within HRSA to maximize the impact of their focus areas.

This reorganization updates the organization, functions, and delegation of authority of the HIV/AIDS Bureau (RV) and the Office of Global Health (RAI) within the Office of the Administrator. Specifically this reorganization: (1) Transfers the functions of the Division of Domestic Programs (RVT1) to the Office of Program Support (RV3) and the Division of Policy and Data (RVA) within the HIV/AIDS Bureau; (2) abolishes the Division of Domestic Programs (RVT2); transfers the organization and functions of the Division of Global Programs (RVT2) to the Office of Global Health (RAI); (3) abolishes the Office of HIV/AIDS Training and Capacity Development (RVT); and (4) updates the functional statement for the HIV/AIDS Bureau, Office of the Associate Administrator (RV).

Chapter RV—HIV/AIDS Bureau

Section RV.10 Organization

Delete the organization for the HIV/AIDS Bureau (RV) in its entirety and replace with the following:

The HIV/AIDS Bureau (RV) is headed by the Associate Administrator, who reports directly to the Administrator, HRSA. The HIV/AIDS Bureau includes the following components:

(1) Office of the Associate Administrator (RV);

(2) Office of Operations and Management (RV2);

(2) Office of Program Support (RV3);

(3) Division of Policy and Data (RVA);

(4) Division of Metropolitan HIV/AIDS Programs (RV5);

(5) Division of State HIV/AIDS Programs (RVD); and

(6) Division of Community HIV/AIDS Programs (RV6).

Section RV.20 Function

Delete the functional statement for The Office of the Associate Administrator (RV), Office of Program Support (RV3) and Division of Policy and Data (RVA) in its entirety and replace with the following:

Office of the Associate Administrator (RV)

The Office of the Associate Administrator provides leadership and direction for the HIV/AIDS programs and activities of the Bureau and oversees its relationship with other national health programs. Specifically: (1) Promotes the implementation of the National HIV/AIDS Strategy within the Agency and among Agency-funded programs; (2) coordinates the formulation of an overall strategy and policy for programs established by Title XXVI of the PHS Act as amended by the Ryan White HIV/AIDS Treatment Extension Act of 2009, Public Law 111-87; (3) coordinates internal functions of the Bureau and its relationships with other Agency Bureaus and Offices; (4) establishes HIV/AIDS program objectives, alternatives, and policy positions consistent with broad Administration guidelines; (5) provides leadership for and oversight of the Bureau's budgetary development and implementation processes; (6) provides clinical leadership to Ryan White-funded programs; (7) serves as a principal contact and advisor to the Department and other parties on matters pertaining to the planning and development of HIV/AIDS-related health delivery systems; (8) reviews HIV/AIDS related program activities to determine their consistency with established policies; (9) develops and oversees operating policies and procedures for the Bureau; (10) oversees and directs the planning, implementation, and evaluation of special studies related to HIV/AIDS and public health within the Bureau; (11) prioritizes technical assistance needs in consultation with each division/office; (12) plans, implements, and evaluates the Bureau's national technical assistance resource training center website and other distance learning modalities; (13) represents the Agency in HIV/AIDS related conferences, consultations, and meetings with other Operating Divisions, Office of the Assistant Secretary for Health, and the White House; and (14) oversees Bureau Executive Secretariat functions and coordinates HRSA responses and comments on HIV/AIDS-related reports, position papers, guidance documents, correspondence, and related issues, including Freedom of Information Act requests.

Office of Program Support (RV3)

The Office of Program Support provides expertise, guidance, leadership, and support in the areas of organizational development, communications, fiscal oversight, grants policy, training and technical assistance to the Bureau staff and grant recipients, and customer service to support program implementation. Specifically, the Office of Program Support: (1) Coordinates grants management and grants policy for the Bureau, including grants liaison functions; (2) supports training and technical assistance (TA) for grant recipients through the AIDS Education and Training Centers (AETCs), TA contracts, and other TA initiatives; (3) plans, implements and evaluates HIV/AIDS Bureau staff development and education to enable employees to meet the mission of the Bureau; (4) streamlines communications, clearance activities and development of consistent, quality presentations; (5) improves the Bureau's external facing communication efforts; (6) facilitates transparency in sharing the Bureau's data using internal and external resources; (7) supports systems development to improve program efficiencies and management; (8) provides support with the implementation of staff development, organizational development and training activities; (9) plans, develops, implements and evaluates the Bureau's organizational and staff development, and staff training activities inclusive of guiding action steps addressing annual Employee Viewpoint Survey results; (10) coordinates the development and distribution of all Bureau communication activities, materials and products internally and externally; (11) supports fiscal oversight and technical assistance to grant recipients; (12) serves as the Bureau's primary liaison with the HRSA Office of Federal Assistance Management (OFAM); (13) provides statutory and programmatic coordination, guidance, and expertise on grants and fiscal compliance to funded programs and Bureau staff; (14) identifies and develops resources to sustain statutory, programmatic and fiscal compliance of funded programs (15) coordinates with HRSA's OFAM for grants processes; (16) coordinates with HRSA's OFAM for fiscal oversight and compliance; (17) as needed, coordinates grant recipient site visits and site specific consultations; (18) supports grant recipients in meeting project goals and deliverables related to fiscal compliance and grants policy; (19) develops grant recipients training and technical assistance plans related to fiscal compliance and grants policy; (20) leads distance learning opportunities; and (21) is responsible for activities associated with the planning, development, implementation, evaluation, and coordination of the HIV/AIDS Education and Training Center Program.

Division of Policy and Data (RVA)

The Division of Policy and Data serves as the Bureau's principal source of program data collection and evaluation and the focal point for coordination of program performance activities, policy analysis, and development of policy guidance. The division coordinates policy and data related technical assistance activities for the Bureau in collaboration with each division and conducts evaluation studies on emerging health service delivery issues and their effects upon clients, providers, grant recipients, systems of care and coordinates clinical quality improvement activities. The division also manages Special Projects of National Significance funding which supports the development of innovative models of HIV care to quickly respond to the emerging needs of clients served by the Ryan White HIV/AIDS Program.

Section RV.30, Delegation of Authority

All delegations of authority and re-delegations of authority made to officials and employees of affected organizational components will continue in them or their successors pending further redelegation, if allowed, provided they are consistent with this reorganization.

Chapter RAI—Office of Global Health

Delete the organization for the Office of Global Health (RAI) in its entirety and replace with the following:

Section RAI.10 Organization

The Office of Global Health (RAI) is headed by the Director, who reports directly to the Administrator, HRSA. The Office of Global Health includes the following components:

(1) Office of the Director (RAI) and

(2) Division of Global Programs (RAI1).

Section RAI.20 Function

Delete the functional statement for the Office of Global Health (RAI) in its entirety and replace with the following:

Office of Global Health (RAI)

The Office of Global Health serves as the principal advisor to the Administrator on global health issues. Specifically, the Office of Global Health (1) provides leadership, coordination, and advancement of global health programs relating to sustainable health systems for vulnerable and at-risk populations; (2) provides leadership within HRSA for the support of global health and coordinates policy development with the HHS Office of Global Affairs, other departmental agencies, bilateral/multilateral organizations, and other international organizations and partners; (3) monitors HRSA's border health activities and investments, in partnership with HRSA's Office of Regional Operations, to promote collaboration and improve health care access to those living along the U.S. borders, such as the U.S.-Mexico border and the U.S. Affiliated Pacific Islands; (4) provides management and oversight of international programs aimed at improving quality and innovation in human resources for health, health professions recruitment, education, retention, and applied research systems; (5) supports and conducts programs associated with the international migration and recruitment of health personnel, foreign, and immigrant health workers; (6) provides support for the agency's international travel and the Department of State's International Visitors Leadership Program; and (7) provides national leadership, including serving as the Deputy Principal representative and providing support to the HRSA Administrator, implements training, and systems strengthening functions of the Global HIV/AIDS Program as part of the President's Emergency Plan for AIDS Relief (PEPFAR).

Division of Global Programs (RAI1)

The Division of Global HIV/AIDS Program provides national leadership, implements training, and systems strengthening functions of the Global HIV/AIDS Program as part of PEPFAR. This includes strengthening health systems for delivery of prevention, care and treatment services for people with HIV/AIDS in PEPFAR-funded countries and providing management and oversight of international programs aimed at improving quality and innovation in health professions education and training. The Division will translate lessons learned from both the domestic and Global HIV/AIDS Programs grant recipient community.

The Division of Global HIV/AIDS Program provides leadership in improving care, treatment and support services for People with HIV/AIDS outside of the United States and its territories. Specifically, the Division: (1) In coordination with the Department of State's Office of the Global AIDS Coordinator, plans, develops, implements, evaluates, and coordinates the activities of the clinical assessment system strengthening; (2) provides guidance and expertise to funded programs; (3) develops funding opportunity announcements and program guidance documents; (4) conducts on-site program reviews and reviews of pertinent and required reports, and activities to assess compliance with program policies and country priorities; (5) in conjunction with other division, Bureau, and agency entities, assists in the planning and implementation of priority HIV activities such as workgroups, meetings, and evaluation projects; (6) collaborates with other federal agencies and in-country partners in the implementation of the PEPFAR program, and; (7) provides management and oversight of international programs aimed at improving quality and innovation in health professions education, retention, training, faculty development and applied research systems.

Section RAI.30, Delegation of Authority

All delegations of authority and re-delegations of authority made to officials and employees of affected organizational components will continue in them or their successors pending further redelegation, if allowed, provided they are consistent with this reorganization.

This reorganization is effective upon date of signature.

Authority: 44 U.S.C. 3101.

Dated: April 2, 2020.
Alex M. Azar II,
Secretary.

[FR Doc. 2020-11769 Filed 6-1-20; 4:15 pm]

BILLING CODE 4165-15-P